FEDERAL RESERVE SYSTEM

Change in Bank Control Notices; Acquisitions of Shares of a Bank or Bank Holding Company

The notificants listed below have applied under the Change in Bank Control Act (Act) (12 U.S.C. 1817(j)) and § 225.41 of the Board's Regulation Y (12 CFR 225.41) to acquire shares of a bank or bank holding company. The factors that are considered in acting on the applications are set forth in paragraph 7 of the Act (12 U.S.C. 1817(j)(7)).

The public portions of the applications listed below, as well as other related filings required by the Board, if any, are available for immediate inspection at the Federal Reserve Bank(s) indicated below and at the offices of the Board of Governors. This information may also be obtained on an expedited basis, upon request, by contacting the appropriate Federal Reserve Bank and from the Board's Freedom of Information Office at https://www.federalreserve.gov/foia/request.htm. Interested persons may express their views in writing on the standards enumerated in paragraph 7 of the Act.

Comments regarding each of these applications must be received at the Reserve Bank indicated or the offices of the Board of Governors, Ann E. Misback, Secretary of the Board, 20th Street and Constitution Avenue NW, Washington DC 20551-0001, not later than March 12, 2021.

A. Federal Reserve Bank of St. Louis (David L. Hubbard, Senior Manager) P.O. Box 442, St. Louis, Missouri 63166-2034. Comments can also be sent electronically to Comments.applications@stls.frb.org:

1. Virginia F. Sapp Trust, Virginia F. Sapp, as trustee, both of St. Louis, Missouri; the Samuel D. Gohn Trust, Samuel D. Gohn, as trustee, the Billie Kay Gohn Trust, Billie Kay Gohn, as trustee, the Gohn Qualified Spousal Trust, David M. Gohn, as trustee, the Courtney G. Beykirch Revocable Trust, Courtney G. Beykirch, as trustee, four Irrevocable Trusts Established for a Minor Child, Courtney G. Beykirch and David M. Gohn, as co-trustees, and Caroline G. Beykirch, all of West Plains, Missouri; a Minor Child Irrevocable Trust, West Plains, Missouri; Jennifer G. Mahaffey, Rogersville, Missouri, and Courtney G. Beykirch, West Plains, Missouri, as co-trustees; the Jennifer G. Mahaffey Trust, Jennifer G. Mahaffey, as trustee, both of Rogersville, Missouri; Amanda Sapp, Oregon City, Oregon; and Jerod Sapp, Corvallis, Oregon; to retain voting shares of West Plains Bancshares, Inc., and thereby indirectly retain voting shares of West Plains Bank and Trust Company, both of West Plains, Missouri.

2. Michael F. Bender and Diane M. Bender, both of Farmington, Missouri; Tyler M. Bender and Kelly L. Bender, both of Webster Groves, Missouri; Jacob J. Bender and JJB Capital, LLC, both of Dallas, Texas; and Abby M. Kimrey and Jordan Kimrey, both of St. Louis, Missouri; as a family control group, and a group acting in concert, to retain voting shares of Midwest Regional Bancorp, Inc., and thereby indirectly retain voting shares of Midwest Regional Bank, both of Festus, Missouri.

B. Federal Reserve Bank of Kansas City (Dennis Denney, Assistant Vice President) 1 Memorial Drive, Kansas City, Missouri 64198-0001:

1. Lance L. White, as co-trustee of the Lance L. White Revocable Trust and as trustee of the Lance L. White Irrevocable Trust, and Cherlyn D. White, as trustee of the Cherlyn D. White-Conklin Irrevocable Trust and as co-trustee of the Cherlyn White-Conklin Trust, all of Wamego, Kansas; and Monte W. White, individually, and as trustee of the MWW Irrevocable Trust #1, both of Salina, Kansas; as members of the White Family Group, a group acting in concert, to retain voting shares of Wamego Bancshares, Inc., and thereby indirectly retain voting shares of Bank of the Flint Hills, both of Wamego, Kansas.

Additionally, Kara L. White, as co-trustee of the Lance L. White Revocable Trust, Cherlyn White-Conklin Trust, Erich Conklin, as co-trustee, and certain minor children, all of Salina and Wamego, Kansas; to join the White Family Group, and retain voting shares of Wamego Bancshares, Inc., and thereby indirectly retain voting shares of Bank of the Flint Hills.

Board of Governors of the Federal Reserve System, February 19, 2021.
Michele Taylor Fennell,
Deputy Associate Secretary of the Board.

[FR Doc. 2021-03841 Filed 2-24-21; 8:45 am]

BILLING CODE P